DEPARTMENT OF STATE

[Public Notice 10200]

U.S. Advisory Commission on Public Diplomacy; Notice of Meeting

The U.S. Advisory Commission on Public Diplomacy will hold a public meeting from 10:00 a.m. until 11:30 p.m., Friday, December 8, 2017, at the Russell Senate Office Building 385 (2 Constitution Ave. NE., Washington, DC 20002).

The public meeting will address the future of public diplomacy training. The session will include presentations from leaders in public diplomacy education and professional development from the Foreign Service Institute, as well as other experts.

This meeting is open to the public, Members and staff of Congress, the State Department, Defense Department, the media, and other governmental and non-governmental organizations. An RSVP is required. To attend and make any requests for reasonable accommodation, email Michelle Bowen at BowenMC1@state.gov by 5 p.m. on Wednesday, December 6, 2017. Please arrive for the meeting by 9:45 a.m. to allow for a prompt start.

Since 1948, the U.S. Advisory Commission on Public Diplomacy has represented the public interest by overseeing the United States government's international information, media, cultural, and educational exchange programs. The Commission is a bipartisan and independent body created by Congress to recommend policies and programs in support of U.S. government efforts to inform and influence foreign publics. It is mandated by law to assess the work of the State Department and to report its findings and recommendations to the President, the Congress, the Secretary of State, and the American people.

The Commission consists of seven members appointed by the President, by and with the advice and consent of the Senate. The members of the Commission represent the public interest and shall be selected from a cross-section of educational, communications, cultural, scientific, technical, public service, labor, business, and professional backgrounds. Not more than four members shall be from any one political party. The President designates a member to chair the Commission.

The current members of the Commission are Mr. Sim Farar of California, Chairman; Mr. William Hybl of Colorado, Vice Chairman; Ambassador Penne Korth-Peacock of Texas; Anne Terman Wedner of Illinois; and Ms. Georgette Mosbacher of New York. Two seats on the Commission are currently vacant.

To request further information about the meeting or the U.S. Advisory Commission on Public Diplomacy, contact the Executive Director, Dr. Shawn Powers, at 202-632-6382 or PowersSM@state.gov.

Shawn Powers,
Executive Director, Advisory Commission on Public Diplomacy, Department of State.

[FR Doc. 2017-24725 Filed 11-14-17; 8:45 am]

BILLING CODE 4710-45-P